DEPARTMENT OF TRANSPORTATION

Federal Transit Administration

Announcement of Charter Renewal of the Transit Advisory Committee for Safety (TRACS)

AGENCY: Federal Transit Administration, DOT.

ACTION: Notice of charter renewal.

SUMMARY: The Federal Transit Administration (FTA) announces the charter renewal of the Transit Advisory Committee for Safety (TRACS), a Federal Advisory Committee established by the U.S. Secretary of Transportation (the Secretary) in accordance with the Federal Advisory Committee Act to provide information, advice, and recommendations to the Secretary and the Federal Transit Administrator on matters relating to the safety of public transportation systems. This charter will be effective for two years from the date of this Federal Register notice.

Contact Information: For further information contact Thomas Littleton, TRACS Designated Federal Official, Associate Administrator, FTA Office of Transit Safety and Oversight, 1200 New Jersey Avenue SE, 4th Floor, East (E45-316), Washington, DC 20590, (202) 366-9239; or Bridget Zamperini, FTA Office of Transit Safety and Oversight, 1200 New Jersey Avenue SE., 4th Floor, East (E45-310), Washington, DC 20590, (202) 366-0306.

SUPPLEMENTARY INFORMATION: This notice is provided in accordance with the Federal Advisory Committee Act (Pub. L. 92-463, 5 U.S.C. App. 2). As noted above, TRACS is a Federal Advisory Committee established to provide information, advice, and recommendations to the Secretary and the Administrator of the Federal Transit Administration on matters relating to the safety of public transportation systems. With the renewed charter, TRACS is renamed as the Transit Advisory Committee for Safety (for continuity the acronym will remain TRACS). The term “RAIL” is omitted from the original title of the advisory committee to reflect the broader current mandate of TRACS to advise on all public transportation safety matters. In addition, TRACS is increased to approximately 29 members representing a broad base of expertise necessary to discharge its responsibilities. Please see the TRACS Web site for additional information at http://www.fta.dot.gov/about/13099.html.

Peter Rogoff,
Administrator.

[FR Doc. 2014-00667 Filed 1-15-14; 8:45 am]

BILLING CODE P